FEDERAL MARITIME COMMISSION

46 CFR Part 531

Non-Vessel-Operating Common Carrier Service Arrangements

AGENCY: Federal Maritime Commission.

ACTION: Final rule, technical amendment.

SUMMARY: In compliance with the Paperwork Reduction Act, this technical amendment revises 46 CFR part 531.99 and Form FMC-78 to reflect the Office of Management and Budget's current control number.

DATES: Effective June 1, 2005.

FOR FURTHER INFORMATION CONTACT: Amy W. Larson, General Counsel, Federal Maritime Commission, 800 North Capitol Street, NW., Washington, DC 20573-0001, (202) 523-5740; Austin L. Schmitt, Director of Operations, Federal Maritime Commission, 800 N. Capitol Street, NW., Washington, DC 20573-0001, (202) 523-0988.

SUPPLEMENTARY INFORMATION: In compliance with the Paperwork Reduction Act, the Federal Maritime Commission is issuing this technical revision to 46 CFR 531.99 and Form FMC-78 to reflect the current Office of Management and Budget (“OMB”) information collection control number for 46 CFR part 531, reflected in 46 CFR 531.99 and Form FMC-78. The former OMB control number was 3072-0067, expiring May 31, 2005. The current OMB control number is 3072-0070, expiring March 31, 2008. This technical rule makes no other changes to the part.

List of Subjects for 46 CFR Part 531

Exports, Non-vessel-operating common carriers, Ocean transportation intermediaries.

Accordingly, 46 CFR part 531 is revised as follows:

PART 531—[AMENDED]

1. The authority citation for part 531 continues to read as follows:

Authority: 46 U.S.C. app. § 1715.

2. Revise the last two sentences of §531.99 to read as follows:

§ 531.99 OMB control nuumbers assigned pursuant to the Paperwork Reduction Act.

* * * The valid control number for this collection of information is 3072-0070. The valid control number for form FMC-78 is 3072-0070.

3. In Exhibit 1 to 46 CFR Part 531, NVOCC Service Arrangement Registration [Form FMC-78], change the OMB control number and expiration date to “3072-0070” and “March 1, 2008.” Thus Form FMC-78 will read as follows:

BILLING CODE 6730-01-P

Dated: May 26, 2005.
Bryant L. VanBrakle,
Secretary.

[FR Doc. 05-10922 Filed 5-31-05; 8:45 am]

BILLING CODE 6730-01-C